NATIONAL AERONAUTICS AND SPACE ADMINISTRATION

[Notice (02-102)]

NASA Advisory Council, Aerospace Technology Advisory Committee, Revolutionize Aviation Subcommittee; Meeting

AGENCY: National Aeronautics and Space Administration (NASA).

ACTION: Notice of meeting change.

SUMMARY: In accordance with the Federal Advisory Committee Act, Pub. L. 92-463, as amended, the National Aeronautics and Space Administration announces a change of date and location for the meeting of the NASA Advisory Council, Aerospace Technology Advisory Committee (ATAC), Revolutionize Aviation Subcommittee (RAS); Notice Number 02-100.

PREVIOUSLY ANNOUNCED DATES AND LOCATION: Wednesday, September 18, 2002, 8 a.m. to 5 p.m.; National Aeronautics and Space Administration, 300 E Street, SW., Room 3H46, Washington, DC 20546.

CHANGES IN THE MEETING: Date changed to September 20, 2002, 8 a.m. to 5 p.m. Address changed to National Aeronautics and Space Administration, 300 E Street SW., Room 7H46, Washington, DC 20546.

FOR FURTHER INFORMATION CONTACT: Ms. Bernice E. Lynch, Code RP, National Aeronautics and Space Administration, Washington, DC (202 ) 358-4594.

Dated: August 29, 2002.
June W. Edwards,
Advisory Committee Management Officer, National Aeronautics and Space Administration.

[FR Doc. 02-22641 Filed 9-4-02; 8:45 am]

BILLING CODE 7510-01-P